COMMITTEE FOR PURCHASE FROM PEOPLE WHO ARE BLIND OR SEVERELY DISABLED

Procurement List; Additions and Deletions

AGENCY: Committee for Purchase from People Who Are Blind or Severely Disabled.

ACTION: Additions to and deletions from procurement list.

SUMMARY: This action adds to the Procurement List services to be furnished by nonprofit agencies employing persons who are blind or have other severe disabilities, and deletes from the Procurement List services previously furnished by such agencies.

EFFECTIVE DATE: May 16, 2004.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On February 13, 2004, the Committee for Purchase From People Who Are Blind or Severely Disabled published notice (69 FR 7191) of proposed additions to the Procurement List. After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services, Federal Building, U.S. Post Office and Courthouse, 300 E. 3rd Street, North Platte, Nebraska.

NPA: Goodwill Employment Services of Central Nebraska, Inc., Grand Island, Nebraska.

Contract Activity: GSA, Public Buildings Service (Region 6), Kansas City, Missouri.

Service Type/Location: Grounds Maintenance, Pueblo Chemical Depot, Installation Acreage, Pueblo, Colorado.

NPA: Pueblo Diversified Industries, Inc., Pueblo, Colorado.

Contract Activity: U.S. Army, Rocky Mountain Arsenal, Commerce City, Colorado.

Deletions

On February 20, 2004, the Committee for Purchase From People Who Are Blind or Severely Disabled published notice (69 FR 7907) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Operation of Recycling Center, Minot Air Force Base, North Dakota.

NPA: Minot Vocational Adjustment Workshop, Inc., Minot, North Dakota.

Contract Activity: Department of the Air Force, Minot Air Force Base, North Dakota.

Service Type/Location: Parts Sorting, Defense Reutilization and Marketing Office, Fort Lewis, Washington.

NPA: Morningside, Olympia, Washington.

Contract Activity: Defense Logistics Agency, Battle Creek, Michigan.

Sheryl D. Kennerly,
Director, Information Management.

[FR Doc. 04-8689 Filed 4-15-04; 8:45 am]

BILLING CODE 6353-01-P